DEPARTMENT OF THE TREASURY

Agency Information Collection Activities; Submission for OMB Review; Comment Request; Multiple Internal Revenue Service Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before August 28, 2017 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained from Jennifer Leonard by emailing PRA@treasury.gov, calling (202) 622-0489, or viewing the entire information collection request at www.reginfo.gov.

SUPPLEMENTARY INFORMATION:

Internal Revenue Service (IRS)

Title: United States Gift (and Generation-Skipping Transfer) Tax Return.

OMB Control Number: 1545-0020.

Type of Review: Revision of a currently approved collection.

Abstract: Form 709 is used by individuals to report transfers subject to the gift and generation-skipping transfer taxes and to compute these taxes. IRS uses the information to enforce these taxes and to compute the estate tax.

Form: IRS Form 709.

Affected Public: Individuals and households.

Estimated Total Annual Burden Hours: 1,726,700.

Title: Employer's Quarterly Federal Tax Return.

OMB Control Number: 1545-0029.

Type of Review: Revision of a currently approved collection.

Abstract: Form 941 is used by employers to report payments made to employees subject to income and social security/Medicare taxes and the amounts of these taxes. Form 941-PR is used by employers in Puerto Rico to report social security and Medicare taxes only. Form 941-SS is used by employers in the U.S. possessions to report social security and Medicare taxes only. Schedule B is used by employers to record their employment tax liability. The Form 8974 was developed to determine the portion of the elected amount that can be claimed for the quarter on the Form 941.

Form: IRS Forms 941 and 8974.

Affected Public: Businesses or other for-profits.

Estimated Total Annual Burden Hours: 402,024,858.

Title: Proceeds From Broker and Barter Exchange Transactions.

OMB Control Number: 1545-0715.

Type of Review: Revision of a currently approved collection.

Abstract: Form 1099-B is used by brokers and barter exchanges to report proceeds from transactions to the Internal Revenue Service. The form will be used by IRS to verify compliance with the reporting rules and to verify that the recipient has included the proper amount of income on his or her return.

Form: IRS Form 1099-B.

Affected Public: Businesses or other for-profits.

Estimated Total Annual Burden Hours: 674,360,608.

Title: Mortgage Interest Statement.

OMB Control Number: 1545-0901.

Type of Review: Revision of a currently approved collection.

Abstract: Form 1098 is used to report $600 or more of mortgage interest received from an individual in the course of the mortgagor's trade or business.

Form: IRS Form 1098.

Affected Public: Businesses or other for-profits.

Estimated Total Annual Burden Hours: 17,849,114.

Title: Substitute Mortality Tables for Single Employer Defined Benefit Plans.

OMB Control Number: 1545-2073.

Type of Review: Revision of a currently approved collection.

Abstract: Revenue Procedure 2007-37 has been updated (i.e., in effect, superseded) by Revenue Procedure 2008-62, 2008-42 IRB 935. Revenue Procedure 2007-37 may be relied on only for requests submitted prior to December 1, 2008. This revenue procedure describes the process for obtaining a letter ruling as to the acceptability of substitute mortality tables under section 430(h)(3)(C) of the Code.

Form: None.

Affected Public: Businesses or other for-profits.

Estimated Total Annual Burden Hours: 60,000.

Title: Generic Clearance for the Collection of Qualitative Feedback on Agency Service Delivery.

OMB Control Number: 1545-2208.

Type of Review: Revision of a currently approved collection.

Abstract: This collection of information is necessary to enable the Agency to garner customer and stakeholder feedback in an efficient, timely manner, in accordance with our commitment to improving service delivery. The information collected from our customers and stakeholders will help ensure that users have an effective, efficient, and satisfying experience with the Agency's programs.

Form: None.

Affected Public: Individuals and households.

Estimated Total Annual Burden Hours: 15,000.

Authority: 44 U.S.C. 3501 et seq.

Dated: July 25, 2017.
Spencer W. Clark,
Treasury PRA Clearance Officer.

[FR Doc. 2017-15977 Filed 7-27-17; 8:45 am]

BILLING CODE 4830-01-P